DEPARTMENT OF COMMERCE

International Trade Administration

North American Free Trade Agreement (NAFTA), Article 1904 Binational Panel Reviews; Notice of Completion of Panel Review

AGENCY: NAFTA Secretariat, United States Section, International Trade Administration, Department of Commerce.

ACTION: Notice of Completion of Panel Review of the International Trade Commission's final determination of Certain Welded Large Diameter Line Pipe from Mexico (Secretariat File No. USA-MEX-2007-1904-03).

SUMMARY: Pursuant to the Decision of the Binational Panel dated August 29, 2011, affirming the International Trade Commission's final determination on remand described above, the panel review was completed on September 29, 2011.

FOR FURTHER INFORMATION CONTACT: Ellen Bohon, United States Secretary, NAFTA Secretariat, Suite 2061, 14th and Constitution Avenue, Washington, DC 20230, (202) 482-5438.

SUPPLEMENTARY INFORMATION: On August 29, 2011, the Binational Panel issued a Decision of the Panel affirming the International Trade Commission's remand determination concerning Certain Welded Large Diameter Line Pipe from Mexico (Secretariat File No. USA-MEX-2007-1904-03). The Secretariat was instructed to issue a Notice of Completion of Panel Review on the 31st day following the issuance of the Notice of Final Panel Action, if no request for an Extraordinary Challenge Committee was filed. No such request was filed. Therefore, on the basis of the Panel Order and Rule 80 of the Article 1904 Panel Rules, the Panel Review was completed and the panelists were discharged from their duties effective September 29, 2011.

Dated: October 3, 2011.
Ellen Bohon,
United States Secretary, NAFTA Secretariat.

[FR Doc. 2011-25952 Filed 10-6-11; 8:45 am]

BILLING CODE 3510-GT-P